DEPARTMENT OF COMMERCE

National Oceanic and Atmospheric Administration

RIN 0648-XH46

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by David Beutel and Laura Skrobe of the University of Rhode Island (URI) contains all of the required information and warrants further consideration. The EFP would enable researchers to test an experimental net that uses very large mesh panels to increase escapement of cod relative to haddock by granting exemption from the Gulf of Maine (GOM) Rolling Closure Areas II and III. The Assistant Regional Administrator has made a preliminary determination that the activities authorized under this EFP would be consistent with the goals and objectives of the Northeast (NE) Multispecies Fishery Management Plan (FMP). However, further review and consultation may be necessary before a final determination is made to issue an EFP. Therefore, NMFS announces that the Assistant Regional Administrator proposes to recommend that an EFP be issued that would allow two commercial fishing vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before May 12, 2008.

ADDRESSES: You may submit written comments by any of the following methods:

• Email: DA8-066@noaa.gov. Include in the subject line “Comments on Eliminator Trawl EFP.”

• Mail: Patricia A. Kurkul, Regional Administrator, NMFS, NE Regional Office, 1 Blackburn Drive, Gloucester, MA 01930. Mark the outside of the envelope “Comments on Eliminator Trawl EFP.”

• Fax: (978) 281-9135.

FOR FURTHER INFORMATION CONTACT: Douglas Potts, Fishery Management Specialist, 978-281-9341.

SUPPLEMENTARY INFORMATION: A complete application for an EFP was submitted on April 2, 2008, by David Beutel and Laura Skrobe for a project entitled “Exploring Bycatch Reduction in the Haddock Fishery Through the Use of the Eliminator Trawl with Fishing Vessels in the 250 to 550 Horsepower Range” funded under the Northeast Region Cooperative Research Partnership Program. The study would conduct field testing of a new net design, referred to as the Eliminator Trawl, specifically scaled for vessels with 250 to 550 horsepower engines. This trawl net is equipped with very large mesh in selected portions of the body to increase escapement of cod and flatfish while retaining haddock. The original Eliminator Trawl, currently being considered as an additional gear in special programs in the NE multispecies fishery, is not designed to allow smaller powered vessels to utilize this net.

The EFP would exempt two vessels from the seasonal GOM Rolling Closure Areas II and III, as specified at 50 CFR 648.81(f)(1)(ii) and (iii), while conducting research trips. These closure areas are believed to provide the mix of species needed, while still being close enough to shore for the safe operation of these smaller vessels. The goal of the research is to demonstrate the efficiency of this net design to selectively target haddock. The applicants intend that, if sufficiently effective, the gear be proposed by the New England Fishery Management Council for use in existing Special Access Programs (SAPs) or for the development of a new SAP in the study area.

Research trips would be conducted within 30-minute squares 132 and 133 and the vessels would conduct side-by-side tows. One vessel would fish with the experimental trawl and the other with a standard legal groundfish trawl. The experimental trawl net employs graduated webbing starting with 5 foot (1.524 m) meshes and ending with the legal minimum 6-inch (15.24-cm) mesh size in the body and 6.5-inch (16.51-cm) mesh in the codend. Each vessel would conduct four to six 1-hour tows per day over six days between the start of the EFP and May 30, 2008, and again between April 1 and May 30, 2009. The researchers believe the best mix of haddock, Atlantic cod, and flounders would be present in this area during this period. Overall, the total expected catch from both the experimental and commercial trawls would be:

Species | Estimated Catch
Atlantic Cod | 14,400 lb (6,531.7 kg)
Haddock | 30,000 lb (13,607.8 kg)
American Plaice | 400 lb (181.4 kg)
Yellowtail Flounder | 10 lb (4.5 kg)

Based on other previous research conducted in the proposed area and season, the researchers estimate that the vessels would catch less that 50 lb (22.7 kg) each of other regulated groundfish species, white hake, winter flounder, witch flounder, windowpane flounder, redfish, and pollock. The vessels would be charged A days-at-sea (DAS) during the research trips and would be subject to applicable size and possession limits. Undersized, or otherwise protected fish, would not be retained or landed. Legal sized fish would be landed and sold under normal NE multispecies DAS and other applicable regulations.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 22, 2008.
Emily H. Menashes
Acting Director, Office of Sustainable Fisheries, National Marine Fisheries Service.

[FR Doc. E8-9048 Filed 4-24-08; 8:45 am]

BILLING CODE 3510-22-S